DEPARTMENT OF HOMELAND SECURITY

Coast Guard

[USCG-2001-9267]

Shipboard Technology Evaluation Program; Programmatic Environmental Assessment and Finding of No Significant Impact

AGENCY: Coast Guard, DHS.

ACTION: Notice of availability.

SUMMARY: The Coast Guard announces the availability of the Final Programmatic Environmental Assessment (PEA) and Finding of No Significant Impact (FONSI) that evaluated the potential environmental impacts resulting from the implementation of the Shipboard Technology Evaluation Program (STEP). The purpose of STEP is to facilitate the development of effective ballast water treatment technologies to protect U.S. waters against the unintentional introduction of nonindigenous species via ballast water discharges. STEP will create more options for vessels seeking alternatives to ballast water exchange as they manage their ballast water.

ADDRESSES: Comments and material received from the public, as well as documents mentioned in this notice as being available in the docket, are part of docket USCG-2001-9267 and are available for inspection or copying at the Docket Management Facility, U.S. Department of Transportation, room PL-401, 400 Seventh Street, SW., Washington, DC, between 9 a.m. and 5 p.m., Monday through Friday, except Federal holidays. You may also find this docket on the Internet at http://dms.dot.gov.

FOR FURTHER INFORMATION CONTACT: If you have questions on this program call Mr. Bivan Patnaik, Project Manager at (202) 267-1744 or e-mail: bpatnaik@comdt.uscg.mil. If you have questions on viewing or submitting material to the docket, call Andrea M. Jenkins, Program Manager, Docket Operations, Department of Transportation, telephone 202-366-0271.

SUPPLEMENTARY INFORMATION: In accordance with the National Environmental Policy Act of 1969 (Section 102(2)(c)), as implemented by the Council on Environment Quality regulations (40 CFR parts 1500-1508) and Coast Guard Policy for Considering Environmental Impacts (COMDTINST M16475.1D), the Coast Guard prepared a final PEA and FONSI for implementing STEP.

Response to Comments

The Coast Guard received one comment on the draft PEA. The commenter stated that the Coast Guard made inaccurate statements regarding the effectiveness of ozone as a ballast water treatment technology and the corrosion issues associated with the use of ozone.

Although the Coast Guard commends the ongoing efforts of developers of ozone technologies as an effective treatment for ballast water, we disagree with the commenter. Based on our review of peer-reviewed published literature and documents submitted by the commenter, it is premature to conclude that ozone will effectively remove all organisms or that corrosion is not an issue. Therefore, no changes were made to the final PEA. We look forward to the results of future research on the effectiveness of ozone technologies and we encourage the commenter to consider participation in STEP.

Programmatic Environmental Assessment

The final PEA identified and examined those reasonable alternatives needed to effectively implement STEP. The final PEA analyzed the no action alternative and two action alternatives that could fulfill the purpose and need of STEP. The final PEA is a program document meant to provide a broad environmental review of a Federal agency's (Coast Guard) national program. In this case, the final PEA provided a broad, general view of the potential environmental impacts that could be anticipated by implementing STEP. Specifically, the final PEA considered potential effects to the natural and human environments including: fish; marine mammals; invertebrates; microbes and plankton; submerged and emergent species; threatened and endangered species; essential fish habitats; and various socioeconomic resources. The final PEA could not foresee all possible specific operational sites or cumulative environmental impacts as a result of implementing any of the action alternatives. However, once specific operational sites and individual shipboard ballast water treatment technologies have been identified, these technologies will undergo a more specific environmental review (tiering). This environmental review of individual shipboard ballast water treatment technologies and specific operational sites will result in the issuance of either: (1) Categorical Exclusion; (2) Finding of No Significant Impact (FONSI) after an Environmental Assessment (EA); or (3) Environmental Impact Statement (EIS).

Dated: November 18, 2004.
Joseph J. Angelo,
Director of Standards, Marine Safety, Security & Environmental Protection.

[FR Doc. 04-26863 Filed 12-7-04; 8:45 am]

BILLING CODE 4910-15-P